DEPARTMENT OF DEFENSE

Department of the Navy

[Docket ID: USN-2008-0030]

Privacy Act of 1974; System of Records

AGENCY: Department of the Navy, DoD.

ACTION: Notice To Amend a System of Records.

SUMMARY: The Department of the Navy is amending a system of records notice in its existing inventory of record systems subject to the Privacy Act of 1974, (5 U.S.C. 552a), as amended.

DATES: This proposed action will be effective without further notice on May 30, 2008, unless comments are received which result in a contrary determination.

ADDRESSES: Send comments to the Department of the Navy, PA/FOIA Policy Branch, Chief of Naval Operations (DNS-36), 2000 Navy Pentagon, Washington, DC 20350-2000.

FOR FURTHER INFORMATION CONTACT: Mrs. Doris Lama at (202) 685-6545.

SUPPLEMENTARY INFORMATION: The Department of the Navy systems of records notices subject to the Privacy Act of 1974, (5 U.S.C. 552a), as amended, have been published in the Federal Register and are available from the address above.

The specific changes to the record system being amended are set forth below followed by the notice, as amended, published in its entirety. The proposed amendments are not within the purview of subsection (r) of the Privacy Act of 1974, (5 U.S.C. 552a), as amended, which requires the submission of a new or altered system report.

Dated: April 23, 2008.
Patricia Toppings,
OSD Federal Register Liaison Officer, Department of Defense.

N07230-2

System name:

NEXCOM Payroll Processing (March 2, 1994, 59 FR 9965).

Changes:

Delete “N07230-2” and replace with “N04066-8”

* * * * *

Categories of individuals covered by the system:

After the word “Guam”, add “Italy, Spain,”.

Categories of records in the system:

Delete “citizenship”.

Authority for maintenance of the system:

Delete entry and replace with “10 U.S.C. 5013, Secretary of the Navy and E.O. 9397 (SSN).”

Purpose(s):

Delete entry and replace with “To maintain a data base which will permit the contractor to supply bi-weekly payroll processing which includes, but is not limited to preparation and issuance of bi-weekly pay checks and pay check stubs, check registers and payroll registers; preparation and issuance of various bi-weekly, monthly, quarterly, semi-annual and annual reports; establishment and maintenance of current payroll master file; annual preparation and distribution of wage and tax statements, Form W-2; and, payroll tax filing services.”

* * * * *

Policies and practices for storing, retrieving, accessing, retaining, and disposing of records in the system:

Storage:

Delete entry and replace with “Computer Server.”

Safeguards:

Delete entry and replace with “Contractor facility is protected as follows: Security Operations Center staffed with security personnel 24/7; security cameras installed at all perimeter doors; access to the site is controlled by an access card system. This system prevents unauthorized entry to the processing and server rooms; cameras are present in the Data Center and outside all Data Center entrances.”

Record source categories:

Delete entry and replace with “Individual and timekeeping management documents.”

* * * * *

N04066-8

System name:

NEXCOM Payroll Processing.

System location:

Navy Exchange Service Command, 3280 Virginia Beach Boulevard, Virginia Beach, VA 23452-5724 and at all Navy Exchanges located in CONUS, Guam, Italy, Spain, and Japan. Official mailing addresses are published as an appendix to the Navy's compilation of systems of records notices.

Categories of individuals covered by the system:

All Navy Exchange System employees located in CONUS, Guam, and Japan.

Categories of records in the system:

The Master Payroll Files and Leave Year Record File will contain at a minimum employee name, Social Security Number (SSN), department, exchange number, payroll number, birth date, marital status, hire date, adjusted date of hire, job grade and step, employee category, pay basis, pay status (exempt/nonexempt), employee benefit, deduction information.

Authority for maintenance of the system:

10 U.S.C. 5013, Secretary of the Navy and E.O. 9397 (SSN).

Purpose(s):

To maintain a data base which will permit the contractor to supply bi-weekly payroll processing which includes, but is not limited to, preparation and issuance of bi-weekly pay checks and pay check stubs, check registers and payroll registers; preparation and issuance of various bi-weekly, monthly, quarterly, semi-annual and annual reports; establishment and maintenance of current payroll master file; annual preparation and distribution of wage and tax statements, Form W-2; and payroll tax filing services.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The ‘Blanket Routine Uses’ that appear at the beginning of the Navy's compilation of systems of records notices apply to this system.

Policies and practices for storing, retrieving, accessing, retaining, and disposing of records in the system:

Storage:

Computer Server.

Retrievability:

Name, Social Security Number, exchange number, and payroll number.

Safeguards:

Contractor facility is protected as follows: Security Operations Center staffed with security personnel 24/7; security cameras installed at all perimeter doors; access to the site is controlled by an access card system. This system prevents unauthorized entry to the processing and server rooms; cameras are present in the Data Center and outside all Data Center entrances.

Retention and disposal:

Records are maintained by the contractor for the life of the contract (three years or more). Once contract is complete, records are returned to NEXCOM where they are maintained for seven years and then destroyed.

System manager(s) and address:

Policy Official: Commander, Navy Exchange Service Command, 3280 Virginia Beach Boulevard, Virginia Beach, VA 23452-5724.

Record Holder: Controller, Navy Exchange Service Command, 3280 Virginia Beach Boulevard, Virginia Beach, VA 23452-5724.

Notification procedure:

Individuals seeking to determine whether this system contains information about themselves should address written inquiries to the Comptroller, Navy Exchange Service Command, 3280 Virginia Beach Boulevard, Virginia Beach, VA 23452-5724.

The request must contain individual's full name and Social Security Number (SSN) and must be signed.

Record access procedures:

Individuals seeking access to information about themselves contained in this system of records should address written inquiries to the Comptroller, Navy Exchange Service Command, 3280 Virginia Beach Boulevard, Virginia Beach, VA 23452-5724.

The request must contain individual's full name and Social Security Number (SSN) and must be signed.

Contesting record procedures:

The Navy's rules for accessing records, and for contesting contents and appealing initial agency determinations are published in Secretary of the Navy Instruction 5211.5; 32 CFR part 701; or may be obtained from the system manager.

Record source categories:

Individual and timekeeping management documents.

Exemptions claimed for the system:

None.

[FR Doc. E8-9381 Filed 4-29-08; 8:45 am]

BILLING CODE 5001-06-P